DEPARTMENT OF THE INTERIOR

Bureau of Indian Affairs

Notice of Availability of the Draft Environmental Impact Statement/Environmental Impact Report for the Proposed Teayawa Energy Center, Riverside County, CA

AGENCY: Bureau of Indian Affairs, Interior.

ACTION: Notice.

SUMMARY: This notice advises the public that the Bureau of Indian Affairs (BIA) intends to file a draft Environmental Impact Statement /Environmental Impact Report (DEIS/EIR) for the proposed Teayawa Energy Center to be constructed and operated on 41.5 acres of the Torres Martinez Indian Reservation in Riverside County, California. The purpose of the proposed project is to conjointly help provide for the economic development and progress of the Torres Martinez Desert Cahuilla Indians and for the power needs of southern California. Details on the project location, proposed action and areas of environmental concern are addressed in the DEIS/EIR provided in the SUPPLEMENTARY INFORMATION section. This notice also announces a public hearing to receive comments on the DEIS/EIR.

DATES: Written comments on the DEIS/EIR must arrive by December 3, 2001. The public hearing will be held on Thursday, October 25, 2001, from 7 p.m. to 10 p.m., or until the last public comment is received.

ADDRESSES: You may mail or hand carry written comments to Ronald Jaeger, Regional Director, Pacific Region, Bureau of Indian Affairs, 2800 Cottage Way, Sacramento, California 95825-1846. Please include your name, return address and the caption, “DEIS/EIR Comments, Teayawa Energy Center, Riverside County, California,” on the first page of your written comments.

The public hearing will be held at the Tribal Hall, Torres Martinez Indian Reservation, 66725 Martinez Road, Thermal, California. This hearing will be co-hosted by the BIA and the Torres Martinez Indians.

FOR FURTHER INFORMATION CONTACT: To obtain a copy of the DEIS/EIR, please write or call William Allan, Environmental Protection Specialist, Pacific Region, Bureau of Indian Affairs, 2800 Cottage Way, Sacramento, California 95825-1846, telephone (916) 978-6043. Copies of the DEIS/EIR are also available for public review in the Torres Martinez Tribal Administrative Headquarters at the Thermal, California, address given above and at public libraries throughout the Coachella Valley, California.

SUPPLEMENTARY INFORMATION: Calpine Corporation, through an agreement with the Torres Martinez Desert Cahuilla Indians, proposes to construct, own and operate the Teayawa Energy Center (TEC), a 600 megawatt, natural-gas-fired power plant to be located on a 41.5 acre parcel of tribal trust land in Riverside County, California. The parcel is located along 62nd Avenue, east of Johnson Street near the Coachella Canal, northeast of the town of Mecca, California.

Natural gas would be supplied to TEC through a new gas pipeline connection to the nearest, Southern California Gas Company intrastate pipeline. The preferred route for this connecting pipeline is north from the proposed TEC site along an existing utility corridor, to an interconnection point on the intrastate line located north of the Interstate 10 freeway.

To provide cooling for TEC, approximately 4000 acre-feet per year of process water would be needed. The preferred source for this water is via connection to the Coachella branch of the All American Canal (Coachella Canal). TEC would use a “zero liquid discharge” system for treatment of process wastewater, including cooling tower blowdown. Water cycled in a cooling tower is concentrated into a sludge-like consistency and evaporated from onsite ponds. The resulting mineral concentration that builds up in the ponds would be stored, dried and eventually hauled off site for disposal at an appropriate landfill.

Potable water would be supplied to TEC by a groundwater well on site. This would also provide a backup source of cooling water when canal water is unavailable. Sanitary waste would be collected in a storage tank and periodically trucked to an offsite treatment plant, or disposed using a septic tank and leach field, if soil conditions permit.

Electricity produced by TEC would be transformed up to transmission level voltage at an onsite switch yard that would be connected to the double circuit, 230-kilovolt (kV) transmission lines owned by the Imperial Irrigation District (IID). These existing transmission lines are located immediately east of the proposed TEC site, on the eastern edge of the Coachella Canal. To mitigate potential, localized transmission system congestion and reliability problems, TEC would include a new electrical transmission line segment to an IID substation in the city of Coachella, California. In addition, re-conductoring and related improvements will be made to existing offsite transmission lines owned by IID and Southern California Edison (SCE) and situated between the Coachella substation and the SCE grid.

Alternatives to the proposed project that are considered in the DEIS/EIR include alternative natural gas pipeline routes, alternative water sources, a smaller energy center and no action (no project). Resources and issues discussed in the DEIS/EIR include water, biological, agricultural, mineral, paleontological, cultural and visual resources, geology and soils, land use, air quality, noise, traffic and transportation, public health/environmental hazards, worker safety, hazardous materials, hazardous waste handling, public services and utilities, socioeconomic, environmental justice and Indian trust assets.

Public Comment Solicitation

As an alternative to submitting written comments regarding the content of the DEIS/EIR to the location identified in the ADDRESSES section, interested persons may instead comment via the Internet to http://www.billallan@bia.gov. Please submit Internet comments as an ASCII file, avoiding the use of special characters and any form of encryption. Include your name, return address and the caption, “DEIS/EIR Comments, Teayawa Energy Center, Riverside County, California,” on the first page of your Internet message. If you do not receive confirmation from the system that your Internet message was received, contact William Allan at (916) 978-6043.

Comments, including names and home addresses of respondents, will be available for public review at the BIA address shown in the ADDRESSES section, during regular business hours, 8 a.m. to 4 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR Parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.1.

Dated: September 27, 2001.
Neal A. McCaleb,
Assistant Secretary—Indian Affairs.

[FR Doc. 01-24982 Filed 10-4-01; 8:45 am]

BILLING CODE 4310-02-P